DEPARTMENT OF AGRICULTURE

Food and Nutrition Service

Agency Information Collection Activities, Comments Request: Understanding States' SNAP Customer Service Strategies

AGENCY: Food and Nutrition Service (FNS), USDA.

ACTION: Notice and request for comments.

SUMMARY: In accordance with the Paperwork Reduction Act of 1995, this notice invites the general public and other public agencies to comment on the proposed collection of information for the Understanding States' SNAP Customer Service Strategies study. This is a NEW information collection. This study seeks to describe the key characteristics of State Supplemental Nutrition Assistance Program (SNAP) agencies' customer service strategies through in-depth case studies in up to 9 States, review the current literature on customer service, particularly in government social safety net programs, and identify promising practices in improving, measuring, and monitoring customer service in SNAP.

DATES: Written comments must be received on or before June 26, 2023.

ADDRESSES: Comments may be sent to: Melanie Meisenheimer, Office of Policy Support, FNS, USDA, 1320 Braddock Place, 5th Floor, Alexandria, VA 22314; telephone: 703-305-2770. Comments may also be submitted via email to melanie.meisenheimer@usda.gov with “SNAP CS” in the subject line. Comments will also be accepted through the Federal eRulemaking Portal. Go to http://www.regulations.gov and follow the online instructions for submitting comments electronically.

All written comments will be open for public inspection at the office of the Food and Nutrition Service during regular business hours (8:30 a.m. to 5:00 p.m.), Monday through Friday at Office of Policy Support, FNS, UDA, 1320 Braddock Place, 5th Floor, Alexandria, VA 22314.

All responses to this notice will be summarized and included in the request for Office of Management and Budget approval. All comments will be a matter of public record.

FOR FURTHER INFORMATION CONTACT: Requests for additional information or copies of this information collection should be directed to Melanie Meisenheimer, Food and Nutrition Service: by phone at 703-305-2770 or by email at melanie.meisenheimer@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Understanding States' SNAP Customer Service Strategies.

Form Number: Not applicable.

OMB Number: 0584-NEW.

Expiration Date: Not yet determined.

Type of Request: New collection.

Abstract: This is a new information collection request. The Food and Nutrition Service (FNS) is interested in exploring how State agencies define and measure the quality of customer service for Supplemental Nutrition Assistance Program (SNAP) applicants and participants, particularly strategies that go beyond the minimum requirements set by FNS; and how State SNAP agencies implement and refine their customer service approaches. This study will conduct case studies in up to nine states to understand their approaches to defining, measuring, and improving customer service in SNAP.

FNS has identified three objectives for this study:

(1) Describe how each study State defines and measures good and/or bad customer service for SNAP applicants and participants, particularly those that go beyond the minimum requirements set by FNS.

(2) For each study State, describe how the State SNAP agency implements and refine its customer service approach.

(3) Describe the current research and documentation available about customer service standards and measurement broadly, with a particular focus on government programs and safety net programs.

The study will be conducted through two key components:

(1) Review of existing studies, reports, and data on customer services strategies and approaches.

(2) Case studies in up to nine states with diverse approaches to supporting and monitoring customer service in SNAP.

The research team will collect case study data during two-day in-person site visits to each selected State that will include interviews with State, regional (e.g., call center), and local SNAP staff and key stakeholders, review of relevant documents and reports, and observations of staff interactions with customer service systems.

Affected Public: Respondent categories of affected public and the corresponding study participants will include: State and Local or Tribal Government and business not-for-profit organizations.

Estimated Number of Respondents: 116.

The total estimated number of respondents (116) includes: Out of 12 State Agency SNAP Directors contacted, 9 will participate; out of 18 State SNAP Administrative Staff contacted, 18 will participate; out of 14 County and Tribal Government and call center SNAP Directors, 14 will participate; out of 54 County and Tribal SNAP Staff contacted, 54 will participate; and out of 9 business not-for-profit organizations contacted, 18 staff will participate.

Estimated Number of Responses per Respondent: The estimated number of responses per State Government SNAP Director respondent is two: Nine State SNAP Directors will take part in a recruitment call lasting about 20 minutes and an interview lasting approximately 1 hour.

The estimated number of responses per State SNAP Administrative Staff respondent is two: 18 respondents will take part in a recruitment call lasting about 20 minutes and an interview lasting approximately 1 hour.

The estimated number of responses per Non-profit Organization (Organizations conducting SNAP outreach) is two: 9 respondents will take part in a recruitment call lasting about 20 minutes and 9 respondents will take part in interviews lasting approximately 1 hour.

The estimated number of responses per County and Tribal Government or Call Center SNAP Director is two: 14 respondents will take part in a recruitment call lasting about 20 minutes and an interview lasting approximately 1 hour.

The estimated number of responses per County and Tribal SNAP Staff is one: 54 respondents will take part in an interview or a deskside observation lasting approximately 1 hour.

Estimated Total Annual Responses: 154.

Estimated Time per Response: 1.3 hours.

Estimated Total Annual Burden on Respondents: 119.9 hours (119.0 for responsive participants and 0.9 for nonresponsive participants).

See the table below for estimated total annual burden for each type of respondent, including non-respondents.

BILLING CODE 6410-30-P

Tameka Owens,
Deputy Administrator, Food and Nutrition Service.

[FR Doc. 2023-08767 Filed 4-25-23; 8:45 am]

BILLING CODE 3410-30-C